DEPARTMENT OF HEALTH AND HUMAN SERVICES

Office of the Secretary

45 CFR Parts 160 and 162

[CMS-0037-WN]

Administrative Simplification: Certification of Compliance for Health Plans; Withdrawal

AGENCY: Office of the Secretary, HHS.

ACTION: Withdrawal of proposed rule.

SUMMARY: This document withdraws the January 2, 2014, proposed rule that would have required a controlling health plan (CHP) to submit information and documentation demonstrating that it is compliant with certain standards and operating rules adopted by the Secretary of Health and Human Services (the Secretary) under the Health Insurance Portability and Accountability Act of 1996 (HIPAA). This proposed rule would have also established penalty fees for a CHP that failed to comply with the certification of compliance requirements.

DATES: As of October 4, 2017, the proposed rule published January 2, 2014, at 79 FR 298, is withdrawn.

FOR FURTHER INFORMATION CONTACT: Geanelle G. Herring, (410) 786-4466.

SUPPLEMENTARY INFORMATION: In the January 2, 2014, Federal Register (79 FR 298), we published the proposed rule titled “Administrative Simplification: Certification of Compliance for Health Plans” which would have required controlling health plans (CHPs) to submit certain information and documentation that demonstrated compliance with the standards and operating rules adopted under the Health Insurance Portability and Accountability Act of 1996 (HIPAA) for three electronic transactions: Eligibility for a health plan, health care claim status, and health care electronic funds transfers (EFT) and remittance advice. The proposed rule would have also established penalty fees for a CHP that failed to comply with the certification of compliance requirements.

We received approximately 72 public comments in response to the January 2, 2014 proposed rule. In light of the issues raised in the public comments received, we have decided to withdraw the January 2014 proposed rule in order to re-examine the issues and explore options and alternatives to comply with the statutory requirements. We note that the Secretary has established regulations pertaining to compliance with, and enforcement of, HIPAA Administrative Simplification standards and operating rules. The withdrawal of this proposed rule does not remove the requirements for covered entities to comply with any of those regulations codified at 45 CFR parts 160 and 162.

Accordingly, the proposed rule published January 2, 2014, at 79 FR 298, is withdrawn.

Dated: August 18, 2017.
Seema Verma,
Administrator, Centers for Medicare & Medicaid Services.
Dated: August 30, 2017.
Thomas E. Price,
Secretary, Department of Health and Human Services.

[FR Doc. 2017-21424 Filed 10-3-17; 8:45 am]

BILLING CODE 4120-01-P